DEPARTMENT OF DEFENSE

Department of the Navy

[Docket ID: USN-2022-HQ-0011]

Submission for OMB Review; Comment Request

AGENCY: Department of the Navy, Department of Defense (DoD).

ACTION: 30-Day information collection notice.

SUMMARY: The DoD has submitted to OMB for clearance the following proposal for collection of information under the provisions of the Paperwork Reduction Act.

DATES: Consideration will be given to all comments received by September 22, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Personalized Web-Based Sexual Assault Prevention for Service Members; OMB Control Number 0703-0080.

Type of Request: Revision.

Sexual Assault Prevention in Service Members Normative Survey

Number of Respondents: 500.

Responses per Respondent: 1.

Annual Responses: 500.

Average Burden per Response: 30 minutes.

Annual Burden Hours: 250

Interview, Focus Groups, and Before-After Surveys

Number of Respondents: 87.

Responses per Respondent: 3.

Annual Responses: 261.

Average Burden per Response: 35 minutes.

Annual Burden Hours: 152.25.

Total

Number of Respondents: 587.

Annual Responses: 761.

Annual Burden Hours: 402.25.

Needs and Uses: The aim of this study is to assist in the adaptation of an existing web-based sexual assault prevention program for college men and women, for use among the Navy population. To achieve this aim, data will be collected in several ways and respondents will participate in only one type of data collection. First, responses to a normative survey will provide information about the behavior and attitudes of Sailors regarding alcohol use and sexual assault. Next, focus groups and interviews will be conducted to obtain feedback about the content of the intervention and ways to adapt it for Sailors. Interviewees and focus group respondents will be selected based on their drinking habits, which will be determined by a brief pre-interview/focus group survey. All data are anonymous, meaning that there is no way for us to match any personally identifiable information of any participant to their survey responses. After interview/focus group completion, a post-interview/focus group survey will be given to obtain non-personally-identifiable demographic and alcohol use information to be used as descriptive information, as well as data from standardized measures that assess respondents' opinions of the existing intervention. All surveys will be completed via a HIPAA compliant software. Data from these surveys will be incorporated into the intervention content and will help generate an adapted prototype of the sexual assault prevention program (+Change) for Sailors.

The results of these surveys will impact the Department of the Navy by documenting the feasibility, acceptability, satisfaction, and utility of a multi-pronged, individually tailored, and easily distributed prevention program that addresses the large problem of sexual assault, and the associated effects of alcohol for Sailors. In the long-term, this research benefits the readiness of the force by producing an easily disseminated high-quality sexual assault prevention program that can be implemented in multiple military settings and sustain evaluation in a larger clinical trial. This research can also have a secondary impact on reducing hazardous alcohol use among service members and can prevent the occurrence of alcohol use problems and associated negative health sequelae in service members. These long-term objectives are consistent with both DoD and the national public health priorities.

Affected Public: Individuals or households.

Frequency: Once per respondent.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 18, 2022.
Kayyonne T. Marston,
Alternate OSD Federal Register Liaison Officer, Department of Defense.

[FR Doc. 2022-18151 Filed 8-22-22; 8:45 am]

BILLING CODE 5001-06-P